DEPARTMENT OF THE INTERIOR

National Park Service

[NPS-WASO-NAGPRA-NPS0039043; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of human remains and associated funerary objects and has determined that there is a cultural affiliation between the human remains and associated funerary objects and Indian Tribes or Native Hawaiian organizations in this notice.

DATES: Repatriation of the human remains and associated funerary objects in this notice may occur on or after December 19, 2024.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in the inventory or related records. The National Park Service is not responsible for the determinations in this notice.

Abstract of Information Available

The lot of 51 associated funerary objects under Accession number 81-06 removed from CA-YOL-136, CA-YOL-137, CA-YOL-138, CA-YOL-139, and CA-YOL-140 in Yolo County, California. The associated funerary objects are flaked tools and debitage and fauna! bones. The Accession Number 81-06 collection is the result of cultural resource study of 7,600 acres in Napa and Yolo Counties done by the Anthropological Studies Center at Sonoma State University at the request of D'Appolonia Consulting Engineers, Inc. CA-YOL-136 is located on a level-topped bluff adjacent to a seasonal stream, the closest city is Guinda in Yolo County. CA-YOL-137 is located on mid-slope terrace with part of the southern portion of the site bulldozed away before the original survey took place in 1981, the closet city is Knoxville. CA-YOL-138 is located on the level valley floor near Davis Creek, the closet city is Knoxville. CA-YOL-139 is located on two adjacent rises on a broad terrace near Davis Creek, the closet city is Knoxville. CA-YOL-140 is located on a wide terrace adjacent to Davis Creek, the closet city is Knoxville. The collection, Accession Number 81-06, has been housed at Sonoma State University since 1982.

The lot of 208 associated funerary objects under Accession Number 82-04 were removed from CA-YOL-138 and CA-YOL-140 in Yolo County, California is flaked stone tools and debitage, groundstone, quartz crystal, fauna) bone and historic-period items. The collection, Accession Number 82-04, has been housed at Sonoma State University since 1983.

The lot of 5,095 associated funerary objects are under Accession Number 83-08 were removed from CA-YOL-138, CA-YOL-139 and CA-YOL-140 in Yolo County, California. A previously published Notice of Inventory Completion (75 FR 68377, November 5, 2010) concerning CA-YOL-139 covered two individuals and 555 associated funerary objects. The remaining associated funerary objects are obsidian tools, obsidian flakes, chert flakes, basalt flakes, basalt tool, fauna) bone fragments, abalone shell fragment, ash/soil samples, groundstone, quartz chunk, abalone pendants and olivella beads. The entire accession remains at Sonoma State University.

Based on the information available, human remains representing, at least, three individuals removed from Accession Number 84-19 site CA-YOL-139 have been reasonably identified. A minimum 14 ancestors and 54 associated funerary objects were previously published in a Notice of Inventory Completion (75 FR 68377, November 5, 2010). The remaining 9,314 associated funerary objects are flaked stone tools and debitage, Groundstone, historic material, Unmodified fauna! bone, shell beads and ornaments, baked clay, bone tools, steatite pipe, dietary shell. This Inventory updates the minimum number of individuals. The Accession number 84-19 collection was the result of a field school led by Sonoma State University and Santa Rosa Junior College from Fall 1984 to Summer 1985. The collection, Accession Number 82-04, has been housed at Sonoma State University since 1985.

Based on records concerning the associated funerary objects and the institution in which they are housed, there is no evidence of the associated funerary objects being treated with hazardous substances.

Cultural Affiliation

Based on the information available and the results of consultation, cultural affiliation is clearly identified by the information available about the human remains and associated funerary objects described in this notice.

Determinations

The Sonoma State University has determined that:

• The human remains described in this notice represent the physical remains of three individuals of Native American ancestry.

• The 14,668 objects described in this notice are reasonably believed to have been placed intentionally with or near individual human remains at the time of death or later as part of the death rite or ceremony.

• There is a reasonable connection between the human remains and associated funerary objects described in this notice and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after December 19, 2024. If competing requests for repatriation are received, the Sonoma State University must determine the most appropriate requestor prior to repatriation. Requests for joint repatriation of the human remains and associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: November 7, 2024.
Melanie O'Brien,
Manager, National NAGPRA Program.

[FR Doc. 2024-26947 Filed 11-18-24; 8:45 am]

BILLING CODE 4312-52-P